DEPARTMENT OF THE INTERIOR

Fish and Wildlife Service

[FWS-R4-ES-2017-N145; FXES11130400000EA-123-FF04EF1000]

Endangered and Threatened Wildlife and Plants; Availability of a Proposed Amendment to a Low-Effect Habitat Conservation Plan for the Florida Scrub-Jay, Manatee and Hardee Counties, FL

AGENCY: Fish and Wildlife Service, Interior.

ACTION: Notice of availability; request for comments.

SUMMARY: We, the Fish and Wildlife Service (Service), have received an application from Mosaic Fertilizer, LLC (Applicant) for amendment of incidental take permit (ITP) number TE236128-1 under the Endangered Species Act of 1973, as amended, in Manatee and Hardee Counties, Florida. We request public comments on the application and accompanying proposed amended habitat conservation plan (HCP) as well as on our preliminary determination that the plan qualifies as low-effect under the National Environmental Policy Act (NEPA). To make this determination, we used our environmental action statement and low-effect screening form, which are also available for review.

DATES: To ensure consideration, please send your written comments by January 8, 2018.

ADDRESSES: You may submit written comments or request copies of the application, HCP, environmental action statement, or low-effect screening form, by any one of the following methods:

Email: northflorida@fws.gov. Use “Attn: Permit number TE236128-2” as your subject line.

Fax: Field Supervisor, (904) 731-3191, Attn: Permit number TE236128-2.

U.S. Mail: Field Supervisor, Jacksonville Ecological Services Field Office, Attn: Permit number TE236128-2, U.S. Fish and Wildlife Service, 7915 Baymeadows Way, Suite 200, Jacksonville, FL 32256.

In-person: You may deliver comments during regular business hours at the office address listed above under U.S. Mail or inspect the application, HCP, environmental action statement, or low-effect screening form by appointment during normal business hours at the same address.

FOR FURTHER INFORMATION CONTACT: Erin M. Gawera, telephone: (904) 731-3121; email: erin_gawera@fws.gov.

SUPPLEMENTARY INFORMATION:

Background

Section 9 of the ESA and our implementing Federal regulations in the Code of Federal Regulations (CFR) at 50 CFR part 17 prohibit the “take” of fish or wildlife species listed as endangered or threatened. Take of listed fish or wildlife is defined under the ESA as “to harass, harm, pursue, hunt, shoot, wound, kill, trap, capture, or collect, or to attempt to engage in any such conduct” (16 U.S.C. 1532(19)). However, under limited circumstances, we issue permits to authorize incidental take—i.e., take that is incidental to, and not the purpose of, the carrying out of an otherwise lawful activity.

Regulations governing incidental take permits for endangered and threatened species are at 50 CFR 17.22 and 17.32, respectively. The ESA's take prohibitions do not apply to federally listed plants on private lands unless such take would violate State law. In addition to meeting other criteria, an incidental take permit's proposed actions must not jeopardize the existence of federally listed fish, wildlife, or plants.

Applicant's Proposal

Mosaic Fertilizer, LLC, is requesting amendment to existing incidental take permit number TE236128-1, which was issued on May 18, 2012, and made available via the Federal Register on February 28, 2012 (77 FR 12074). Permit number TE236128-1 authorized the take of approximately 75 acres (ac) of occupied Florida scrub-jay (Aphelocoma coerulescens) habitat incidental to land clearing and phosphate mining and of no more than three eastern indigo snakes (Drymarchon corais couperi) within each 5-year period throughout the 41-year-long duration of the permit within the 4,345-ac project area located on parcel #45400059, within sections 13, 22-27, and 34, Township 34 South, Range 22 East, Manatee County, Florida. The requested amendment is to expand the area in which eastern indigo snakes may be incidentally taken to include an additional 900 acres located in sections 17, 18, 19, 20, 29, and 30 of Township 34 South, Range 23 East, in western Hardee County adjacent to the Manatee County parcel. No increase in the amount of take for the eastern indigo snake or the Florida scrub-jay has been requested. The HCP describes the measures the Applicant proposes to undertake to mitigate and minimize the effects of the project on the threatened Florida scrub-jay and threatened eastern indigo snake.

Our Preliminary Determination

We have determined that the Applicant's proposal, including the proposed mitigation and minimization measures, would have minor or negligible effects on the species covered in the HCP. Therefore, we have determined that the ITP for this project would be “low effect” and qualify as a categorically excluded under NEPA, as provided by 43 CFR 46.205 and 46.210. A low-effect HCP is one involving (1) minor or negligible effects on federally listed or candidate species and their habitats, and (2) minor or negligible effects on other environmental values or resources.

Next Steps

We will evaluate the HCP and comments we receive to determine whether the ITP application meets the requirements of section 10(a) of the ESA. We will also evaluate whether issuance of the ITP complies with section 7 of the ESA by conducting an intra-Service consultation. We will use the results of this consultation, in combination with the above findings, in our final analysis to determine whether or not to issue the amended ITP. If the requirements are met, we will issue ITP number TE236128-2 to the applicant.

Public Comments

If you wish to comment on the permit application, HCP, or associated documents, you may submit comments by any one of the methods listed above in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Authority: We provide this notice under section 10 of the ESA and NEPA regulation 40 CFR 1506.6.

Jay B. Herrington,
Field Supervisor, Jacksonville Field Office, Southeast Region.

[FR Doc. 2017-26360 Filed 12-6-17; 8:45 am]

BILLING CODE 4333-15-P